Title 3—

The President

Memorandum of July 8, 2003

Delegation of Authority Under Section 204(a) of the Notification and Federal Employee Antidiscrimination and Retaliation Act of 2002 (Public Law 107-174)

Memorandum for the Director of the Office of Personnel Managment

By the authority vested in me by the Constitution and the laws of the United States, including section 301 of title 3, United States Code, I hereby delegate to the Director of the Office of Personnel Management (OPM) the authority vested in the President by section 204(a) of the Notification and Federal Employee Antidiscrimination and Retaliation Act of 2002 (the “Act”) (Public Law 107-174). The Director of OPM shall ensure that rules, regulations, and guidelines issued in the exercise of such authority take appropriate account of the needs of executive agencies in the accomplishment of their respective missions, specifically including the specialized needs of agencies with diplomatic, military, intelligence, law enforcement, security, and protective missions. The Director shall consult the Attorney General and such other officers of the executive branch as the Director of OPM may determine appropriate in the exercise of authority delegated by this memorandum.

This memorandum is intended to improve the internal management of the Federal Government and is not intended to, and does not, create any right or benefit, substantive or procedural, enforceable at law or equity or otherwise against the United States, its departments, agencies, instrumentalities, entities, officers or employees, or any other person.

You are authorized and directed to publish this memorandum in the Federal Register.

B

THE WHITE HOUSE,

Washington, July 8, 2003.

[FR Doc. 03-19706

Filed 7-30-03; 11:27 am]

Billing code 6325-48-P